DEPARTMENT OF DEFENSE

Department of the Air Force

Proposed Collection; Common Request

AGENCY: Department of the Air Force, DoD.

ACTION: Notice.

In compliance with Section 3506(c)(2)(A) of the Paperwork Reduction Act of 1995, the Department of the Air Force announces the proposed reinstatement of a public information collection and seeks public comment on the provisions thereof. Comments are invited on: (a) Whether the proposed collection of information is necessary for the proper performance of the functions of the agency, including whether the information shall have practical utility; (b) the accuracy of the agency's estimate of the burden of the proposed information collection; and (c) ways to minimize the burden of the information collection on respondents, including through the use of automated collection techniques or other forms of information technology.

DATES: Consideration will be given to all comments received by April 10, 2001.

ADDRESSES: Written comments and recommendations on the proposed information collection should be sent to AFSPC CSS/SCFB, 150 Vandenberg St, Suite 1105, ATTN: SMSgt Jack Kretchek, Peterson AFB, CO 80914-4730.

FOR FURTHER INFORMATION CONTACT: To request more information on this proposed information collection or to obtain a copy of the proposal and associated collection instruments, please write to the above address, or call AFSPC CSS Force Application and Sustainment, (719) 554-4057.

Title, Associated Form, and OMB Number: Intercontinental Ballistic Missile Hardened Intersite Cable Right-of-Way Landowner/Tenant Questionnaire, AF Form 3951, OMB Number 0701-0141.

Needs and Uses: The information collection requirement is used to report changes in ownership/lease information, conditions of missile cable route and associated appurtenances, and projected building/excavation projects. The information collected is used to ensure system integrity and to maintain a close contact public relations program with involved personnel and agencies.

Affected Public: Individuals or households; Farms.

Number of Respondents: 4,000.

Responses per Respondent: 1.

Average Burden per Response: 15 Minutes.

Frequency: Biennially.

SUPPLEMENTARY INFORMATION:

Summary of Information Collection

Respondents are landowners/tenants. This form collects updated landowner/tenant information as well as data on local property conditions which could adversely affect the Hardened Intersite Cable System (HICS) such as soil erosion, projected/building projects, excavation plans, etc. This information also aids in notifying landowners/tenants when HICS preventive or corrective maintenance becomes necessary to ensure uninterrupted Intercontinental Ballistic Missile command and control capability.

Janet A. Long,
Air Force Federal Register Liaison Officer.

[FR Doc. 01-3376 Filed 2-8-01; 8:45am]

BILLING CODE 5001-05-U